DEPARTMENT OF AGRICULTURE

Rural Housing Service

Notice of Request for Collection of Public Information With the Use of a Survey

AGENCY: Rural Housing Service, USDA.

ACTION: Proposed collection; comments requested.

SUMMARY: In accordance with the Paperwork Reduction Act of 1995, this notice announces the Rural Housing Service's intention to request clearance for a new information collection to measure the quality of service provided by the Rural Housing Service (RHS) Centralized Servicing Center (CSC).

DATES: Comments on this notice must be received by May 12, 2003, to be assured of consideration.

FOR FURTHER INFORMATION CONTACT: Bill Scaggs, Section Head, Customer Service Branch, Centralized Servicing Center, 1520 Market Street, Room 3622, St. Louis, Missouri 63103, phone: (314) 206-2096, e-mail: bs244@stl.rural.usda.gov.

SUPPLEMENTARY INFORMATION:

Title: Rural Housing Service—Customer Satisfaction Survey.

Type of Request: New information collection.

Abstract: The Rural Housing Service (RHS) provides insured loans to low- and moderate-income applicants located in rural geographic areas to assist them in obtaining decent, sanitary, and safe dwellings. RHS currently processes loan originations through approximately 900 Field Offices. The RHS Centralized Servicing Center (CSC), located in St. Louis, Missouri, provides support to the Field Offices and is responsible for loan servicing functions with borrowers. The CSC was established to achieve a high level of customer service and operating efficiency. The CSC has established a fully integrated call center and is able to provide borrowers with convenient access to their loan account information.

To facilitate the CSC's mission and in an effort to continuously improve its services, a survey has been developed that can measure the quality of service that the Field Offices and borrowers receive when they contact the CSC. Respondents will only need to report information on a one-time basis. The outcome of the Customer Satisfaction Survey will provide the general satisfaction level among RHS customers throughout the nation highlighting areas that need improvement and to provide a benchmark for future surveys and improvements in customer service. A follow up survey will be conducted in 18 months, but may or may not be sent to the same initial respondents. Additionally, in accordance with Government Performance and Results Act (GPRA), the survey will enable CSC to measure the results and overall effectiveness of customer services provided as well as implement action plans and measure improvements.

Estimate of Burden: Public reporting burden for this collection of information is estimated to average 10 minutes per response.

Respondents: Field office personnel, most likely office clerks and borrowers.

Estimated Number of Respondents: 23,000.

Estimated Number of Responses per Respondent: 1.

Estimated Number of Responses: 23,000

Estimated Total Annual Burden on Respondents: 3,680

Copies of this information collection can be obtained from Cheryl Thompson, Regulations and Paperwork Management Branch, Support Services Division at (202) 692-0043.

Comments: Comments are invited on: (a) Whether the proposed collection of information is necessary for the proper performance of the functions of the agency, including whether the information will have practical utility; (b) the accuracy of agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Cheryl Thompson, Regulations and Paperwork Management Branch, Support Services Division, U.S. Department of Agriculture, Rural Development, STOP 0742, 1400 Independence Ave., SW., Washington, DC 20250-0742. All responses to this notice will be summarized and included in the request for OMB approval. All comments will also become a matter of public record.

Dated: March 6, 2003.
Arthur A. Garcia,
Administrator, Rural Housing Service.

[FR Doc. 03-6053 Filed 3-12-03; 8:45 am]

BILLING CODE 3410-XY-P